COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List services to be furnished by nonprofit agencies employing persons who are blind or have other severe disabilities, and to delete services previously furnished by such agencies.

Comments Must Be Received on or Before: August 28, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Base Supply Center, Maxwell Air Force Base, Alabama.

NPA: Alabama Industries for the Blind, Talladega, Alabama.

Contracting Activity: 42nd CONS/CC, Maxwell AFB, Alabama.

Service Type/Location: Document Destruction, NARA—Pacific Alaska Region, 6125 Sand Point Way, NE., Seattle, Washington.

NPA: Northwest Center for the Retarded, Seattle, Washington,

Contracting Activity: National Archives & Records Administration, College Park, Maryland.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Base Supply Center, Naval Supply Center, Puget Sound, Building 467, Bremerton, Washington.

NPA: Peninsula Services, Bremerton, Washington,

Contracting Activity: Fleet and Industrial Supply Center, Puget Sound, Washington.

Service Type/Location: Janitorial/Custodial, Federal Warehouse, 2760 NW Yeon Avenue, Portland, Oregon.

NPA: Portland Habilitation Center, Inc., Portland, Oregon.

Contracting Activity: GSA, Public Buildings Service, Auburn, Washington.

Service Type/Location: Janitorial/Custodial, Naval Reserve Center, Fort Harrison, South Avenue, Helena, Montana.

NPA: Helena Industries, Inc., Helena, Montana.

Contracting Activity: Department of the Navy, Everett, Washington.

Service Type/Location: Janitorial/Custodial, Ross Complex, 5411 NE Highway 99, Vancouver, Washington.

NPA: Portland Habilitation Center, Inc., Portland, Oregon.

Contracting Activity: Department of Energy, Washington, DC.

Service Type/Location: Janitorial/Custodial, U.S. Federal Building and Post Office, 256 Warner Milne Road, Oregon City, Oregon.

NPA: Portland Habilitation Center, Inc., Portland, Oregon.

Contracting Activity: General Services Administration.

Service Type/Location: Janitorial/Custodial, U.S. Federal Building, 1709 Jackson Street, Omaha, Nebraska.

NPA: Goodwill Specialty Services, Inc., Omaha, Nebraska.

Contracting Activity: General Services Administration.

G. John Heyer,
General Counsel.

[FR Doc. E5-4060 Filed 7-28-05; 8:45 am]

BILLING CODE 6353-01-P